ENVIRONMENTAL PROTECTION AGENCY

[FRL-7963-6]

Draft Air Quality Criteria for Ozone and Related Photochemical Oxidants E-Docket No. ORD-2004-0015

AGENCY: Environmental Protection Agency (EPA).

ACTION: Notice of second external review draft for public review and comment.

SUMMARY: The U.S. Environmental Protection Agency (EPA) Office of Research and Development's National Center for Environmental Assessment (NCEA) is reviewing and, as appropriate, revising the EPA document, Air Quality Criteria for Ozone and Related Photochemical Oxidants, EPA-600/AP-93/004aF-cF, published in 1996. Today's Federal Register notice announces the availability of a second external review draft of the revised ozone air quality criteria document (AQCD).

DATES: The period for submission of comments on the second external review draft of the revised ozone AQCD begins August 31, 2005, and ends November 30, 2005.

ADDRESSES: The second external review draft of the revised ozone AQCD will be available on or about August 31, 2005. Internet users will be able to download a copy of this document from the NCEA home page. The URL is http://www.epa.gov/ncea/. A limited number of CD-ROM or paper copies will be available. Contact Ms. Diane Ray by phone (919-541-3637), fax (919-541-1818), or email (ray.diane@epa.gov) to request either of these. Please provide the draft document's title, Air Quality Criteria for Ozone and Related Photochemical Oxidants (Second External Review Draft), Volumes I, II, and III, EPA 600/R-05/004aB, bB, and cB, as well as your name and address, to facilitate processing of your request. Public comments on the second external review draft of the revised ozone AQCD may be submitted electronically, by mail, by facsimile, or by hand delivery/courier. Please follow the detailed instructions as provided in the section of this notice entitled SUPPLEMENTARY INFORMATION.

FOR FURTHER INFORMATION CONTACT: For details on the period for submission of comments from the public, contact the Office of Environmental Information Docket; telephone: 202-566-1752; facsimile: 202-566-1753; or e-mail: ORD.Docket@epa.gov.

For technical information, contact Lori White, Ph.D., NCEA, facsimile: 919-541-1818, or email: white.lori@epa.gov.

SUPPLEMENTARY INFORMATION: Section 108 (a) of the Clean Air Act directs the EPA Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *.'' Under section 109 of the Act, EPA is then to establish National Ambient Air Quality Standards (NAAQS) for each pollutant for which EPA has issued criteria. Section 109 (d) of the Act subsequently requires periodic review and, if appropriate, revision of existing air quality criteria to reflect advances in scientific knowledge on the effects of the pollutant on public health and welfare. EPA is also to revise the NAAQS, if appropriate, based on the revised criteria.

Ozone is one of six “criteria” pollutants for which EPA has established air quality criteria and NAAQS. On September 26, 2000 (65 FR 57810), EPA formally initiated its current review of the criteria and NAAQS for ozone, requesting the submission of recent scientific information on specified topics. Preliminary outlines for the proposed chapters were presented in the draft Project Work Plan that was released for public comment (66 FR 67524, December 31, 2001) and for review by the Clean Air Scientific Advisory Committee (CASAC) of EPA's Science Advisory Board (68 FR 3527, January 24, 2003). Later in 2003, a series of workshops were convened to discuss draft sections and chapters for revising the existing Ozone AQCD (68 FR 17365, April 9, 2003, and 68 FR 60369, October 22, 2003).

In January 2005, EPA announced the availability of the first external review draft of the Air Quality Criteria for Ozone and Related Photochemical Oxidants for review and comment (70 FR 4850, January 31, 2005). Following the close of the public comment period, EPA presented the first external review draft of the ozone AQCD to the CASAC Ozone Review Panel on May 4-5, 2005. The public comments received were also made available to the CASAC. EPA has carefully considered the public comments and comments from the CASAC Review Panel in preparing the second external review draft announced in today's notice.

After the end of the comment period on the Air Quality Criteria for Ozone and Related Photochemical Oxidants (Second External Review Draft), EPA will present the draft at a public meeting for review by the Clean Air Scientific Advisory Committee (CASAC). Public comments received will be provided to the CASAC review panel. There will be a Federal Register notice to inform the public of the exact date and time of that CASAC meeting.

How To Submit Comments to EPA's E-Docket

EPA has established an official public docket for information pertaining to the revision of the Ozone AQCD, Docket ID No. ORD-2004-0015. The official public docket is the collection of materials, excluding Confidential Business Information (CBI) or other information whose disclosure is restricted by statute, that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the official public docket is available through EPA's electronic public docket and comment system, E-Docket. You may use E-Docket at http://www.epa.gov/edocket/ to submit or view public comments, to access the index listing of the contents of the official public docket, and to view those documents in the public docket that are available electronically. Once in the system, select “search,” then key in the appropriate docket identification number.

Certain types of information will not be placed in E-Docket. Information claimed as CBI and other information with disclosure restricted by statute, also not included in the official public docket, will not be available for public viewing in E-Docket. Copyrighted material also will not be placed in E-Docket but will be referenced there and available as printed material in the official public docket.

Persons submitting public comments should note that EPA's policy makes the information available as received and at no charge for public viewing at the EPA Docket Center or in E-Docket. This policy applies to information submitted electronically or in paper form, except where restricted by copyright, CBI, or statute.

Unless restricted as above, public comments submitted on computer disks that are mailed or delivered to the docket will be transferred to E-Docket. Physical objects will be photographed, where practical, and the photograph will be placed in E-Docket along with a brief description written by the docket staff.

You may submit public comments electronically, by mail, by facsimile, or by hand delivery/courier. To ensure proper receipt by EPA, include the appropriate docket identification number with your submission. Please adhere to the specified submitting period. Public comments received or submitted past the closing date will be marked “late” and may only be considered if time permits.

If you submit public comments electronically, EPA recommends that you include your name, mailing address, and an e-mail address or other details for contacting you. Also include these contact details on the outside of any disk or CD ROM you submit, and in any cover letter accompanying the disk or CD ROM. This ensures that you can be identified as the person submitting the public comments and allows EPA to contact you in case the Agency cannot read what you submit due to technical difficulties or needs to clarify issues raised by what you submit. If EPA cannot read what you submit due to technical difficulties and cannot contact you for clarification, it may delay or prohibit the Agency's consideration of the public comments.

To access EPA's electronic public docket from the EPA Internet Home Page, select “Information Sources,” “Dockets,” and “EPA Dockets.” Once in the system, select “search,” and key in Docket ID No. ORD-2004-0015. The system is an “anonymous access” system, which means EPA will not know your identity, e-mail address, or other contact details if you are merely viewing the information.

Public comments may be sent by electronic mail (e-mail) to ORD.Docket@epa.gov, Attention Docket ID No. ORD-2004-0015. In contrast to EPA's electronic public docket, EPA's e-mail system is not an “anonymous access” system. If you send an e-mail directly to the docket without going through EPA's E-Docket, EPA's e-mail system automatically captures your e-mail address, and it becomes part of the information in the official public docket and is made available in EPA's E-Docket.

You may submit public comments on a disk or CD ROM mailed to the OEI Docket mailing address. Files will be accepted in WordPerfect, Word, or PDF file format. Avoid the use of special characters and any form of encryption.

If you provide public comments in writing, please submit one unbound original, with pages numbered consecutively, and three copies. For attachments, provide an index, number pages consecutively with the main text, and submit an unbound original and three copies.

Dated: August 25, 2005.
George Alapas,
Acting Director, National Center for Environmental Assessment.

[FR Doc. 05-17356 Filed 8-30-05; 8:45 am]

BILLING CODE 6560-50-P